DEPARTMENT OF TRANSPORTATION

Federal Aviation Administration

14 CFR Part 39

[Docket No. FAA-2009-0897; Directorate Identifier 2009-CE-048-AD; Amendment 39-16036; AD 2009-20-13]

RIN 2120-AA64

Airworthiness Directives; Glaser-Dirks Flugzeugbau GmbH Model DG-100 Gliders

AGENCY: Federal Aviation Administration (FAA), DOT.

ACTION: Final rule; request for comments.

SUMMARY: We are adopting a new airworthiness directive (AD) for the products listed above. This AD results from mandatory continuing airworthiness information (MCAI) issued by the aviation authority of another country to identify and correct an unsafe condition on an aviation product. The MCAI describes the unsafe condition as:

During a pre-flight inspection of a DG-100 sailplane, a rod end of the aileron control push-rod at the control column was found broken.

The investigation revealed that the broken rod end was made of machining steel as initially used in the first years at Glaser-Dirks.

This AD requires actions that are intended to address the unsafe condition described in the MCAI.

DATES: This AD becomes effective October 21, 2009.

On October 21, 2009, the Director of the Federal Register approved the incorporation by reference of certain publications listed in this AD.

We must receive comments on this AD by November 16, 2009.

ADDRESSES: You may send comments by any of the following methods:

• Federal eRulemaking Portal: Go to http://www.regulations.gov. Follow the instructions for submitting comments.

• Fax: (202) 493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-140, 1200 New Jersey Avenue, SE., Washington, DC 20590, between 9 a.m. and 5 p.m., Monday through Friday, except Federal holidays.

Examining the AD Docket

You may examine the AD docket on the Internet at http://www.regulations.gov; or in person at the Docket Management Facility between 9 a.m. and 5 p.m., Monday through Friday, except Federal holidays. The AD docket contains this AD, the regulatory evaluation, any comments received, and other information. The street address for the Docket Office (telephone (800) 647-5527) is in the ADDRESSES section. Comments will be available in the AD docket shortly after receipt.

FOR FURTHER INFORMATION CONTACT: Greg Davison, Glider Program Manager, FAA, Small Airplane Directorate, 901 Locust, Room 301, Kansas City, Missouri 64106; telephone: (816) 329-4130; fax: (816) 329-4090.

SUPPLEMENTARY INFORMATION:

Discussion

The European Aviation Safety Agency (EASA), which is the Technical Agent for the Member States of the European Community, has issued EASA Emergency AD No.: 2009-0167-E, dated July 30, 2009 (referred to after this as “the MCAI”), to correct an unsafe condition for the specified products. The MCAI states:

During a pre-flight inspection of a DG-100 sailplane, a rod end of the aileron control push-rod at the control column was found broken.

The investigation revealed that the broken rod end was made of machining steel as initially used in the first years at Glaser-Dirks.

This new Airworthiness Directive (AD) mandates inspection and as necessary replacement of the control column rod ends with high-strength steel rod ends.

You may obtain further information by examining the MCAI in the AD docket.

Relevant Service Information

DG Flugzeugbau GmbH has issued Technical note No. 301/25, 323/16, Rev. 1, dated August 4, 2009. The actions described in this service information are intended to correct the unsafe condition identified in the MCAI.

FAA's Determination and Requirements of the AD

This product has been approved by the aviation authority of another country, and is approved for operation in the United States. Pursuant to our bilateral agreement with this State of Design Authority, they have notified us of the unsafe condition described in the MCAI and service information referenced above. We are issuing this AD because we evaluated all information provided by the State of Design Authority and determined the unsafe condition exists and is likely to exist or develop on other products of the same type design.

Differences between this AD and the MCAI or Service Information

We have reviewed the MCAI and related service information and, in general, agree with their substance. But we might have found it necessary to use different words from those in the MCAI to ensure the AD is clear for U.S. operators and is enforceable. In making these changes, we do not intend to differ substantively from the information provided in the MCAI and related service information.

We might have also required different actions in this AD from those in the MCAI in order to follow FAA policies. Any such differences are described in a separate paragraph of the AD. These requirements take precedence over those copied from the MCAI.

FAA's Determination of the Effective Date

An unsafe condition exists that requires the immediate adoption of this AD. The FAA has found that the risk to the flying public justifies waiving notice and comment prior to adoption of this rule because a recent pre-flight inspection detected a broken rod end of the aileron control push rod in the control column. An investigation revealed that the broken rod end was made of machining steel that was used in the initial production years of Glaser-Dirks. The aileron control column push rod has been redesigned and is now made from high strength steel. Therefore, we determined that notice and opportunity for public comment before issuing this AD are impracticable and that good cause exists for making this amendment effective in fewer than 30 days.

Comments Invited

This AD is a final rule that involves requirements affecting flight safety, and we did not precede it by notice and opportunity for public comment. We invite you to send any written relevant data, views, or arguments about this AD. Send your comments to an address listed under the ADDRESSES section. Include “Docket No. FAA-2009-0897; Directorate Identifier 2009-CE-048-AD” at the beginning of your comments. We specifically invite comments on the overall regulatory, economic, environmental, and energy aspects of this AD. We will consider all comments received by the closing date and may amend this AD because of those comments.

We will post all comments we receive, without change, to http://www.regulations.gov, including any personal information you provide. We will also post a report summarizing each substantive verbal contact we receive about this AD.

Authority for this Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD and placed it in the AD docket.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2009-20-13 Glaser-Dirks Flugzeugbau GmbH: Amendment 39-16036; Docket No. FAA-2009-0897; Directorate Identifier 2009-CE-048-AD.

Effective Date

(a) This airworthiness directive (AD) becomes effective October 21, 2009.

Affected ADs

(b) None.

Applicability

(c) This AD applies to Model DG-100 gliders, all serial numbers, certificated in any category.

Subject

(d) Air Transport Association of America (ATA) Code 27: Flight Controls.

Reason

(e) The mandatory continuing airworthiness information (MCAI) states:

“During a pre-flight inspection of a DG-100 sailplane, a rod end of the aileron control push-rod at the control column was found broken. The investigation revealed that the broken rod end was made of machining steel as initially used in the first years at Glaser-Dirks. This new Airworthiness Directive (AD) mandates inspection and as necessary replacement of the control column rod ends with high-strength steel rod ends.”

Actions and Compliance

(f) Unless already done, do the following actions.

(1) Before further flight after October 21, 2009 (the effective date of this AD), inspect the control column rod end following paragraph 1 of the Instructions section of DG Flugzeugbau Technical note No. 301/25, 323/16, Rev. 1, dated August 4, 2009.

(2) If, during the inspection, an X is not found on the rod end, replace the rod end with a high-strength steel rod end (identified with an X on the rod end) following paragraph 2 of the Instructions section of DG Flugzeugbau Technical note No. 301/25, 323/16, Rev. 1, dated August 4, 2009, as follows:

(i) Before further flight if any defects (cracks, corrosion pits, etc.) are found; or

(ii) Within 3 months after October 21, 2009 (the effective date of this AD) if no defects are found.

(3) As of the effective date of this AD, adhere to the following using the referenced service information:

(i) If installing a rod end without an X, ensure it has passed the inspection in paragraph (f)(1) of this AD and replace it with one with an X no later than 3 months after October 21, 2009 (the effective date of this AD); and

(ii) As of 3 months after October 21, 2009 (the effective date of this AD), only install a rod end with an X.

FAA AD Differences

Note: This AD differs from the MCAI and/or service information as follows:

(1) DG Flugzeugbau GmbH Technical Note No. 301/25, 323/16, Rev. 1, dated August 4, 2009, states that instruction 1 may be executed by the pilot/owner. By FAA regulations, this AD requires all affected gliders to have the required actions done by an appropriately-rated mechanic.

(2) The MCAI states to do the actions following DG Flugzeugbau GmbH Technical Note No. 301/25 or DG Flugzeugbau GmbH Technical Note No. 323/16, both initial issue dated July 17, 2009. DG Flugzeugbau GmbH updated the technical note after the MCAI was issued. We are requiring you use the updated technical note (DG Flugzeugbau GmbH Technical Note No. 301/25, 323/16, Rev. 1, dated August 4, 2009) to do the actions required.

Other FAA AD Provisions

(g) The following provisions also apply to this AD:

(1) Alternative Methods of Compliance (AMOCs): The Manager, Standards Office, FAA, has the authority to approve AMOCs for this AD, if requested using the procedures found in 14 CFR 39.19. Send information to ATTN: Greg Davison, Glider Program Manager, FAA, Small Airplane Directorate, 901 Locust, Room 301, Kansas City, Missouri 64106; telephone: (816) 329-4130; fax: (816) 329-4090. Before using any approved AMOC on any airplane to which the AMOC applies, notify your appropriate principal inspector (PI) in the FAA Flight Standards District Office (FSDO), or lacking a PI, your local FSDO.

(2) Airworthy Product: For any requirement in this AD to obtain corrective actions from a manufacturer or other source, use these actions if they are FAA-approved. Corrective actions are considered FAA-approved if they are approved by the State of Design Authority (or their delegated agent). You are required to assure the product is airworthy before it is returned to service.

(3) Reporting Requirements: For any reporting requirement in this AD, under the provisions of the Paperwork Reduction Act (44 U.S.C. 3501 et seq.), the Office of Management and Budget (OMB) has approved the information collection requirements and has assigned OMB Control Number 2120-0056.

Related Information

(h) Refer to MCAI European Aviation Safety Agency (EASA) Emergency AD No.: 2009-0167-E, dated July 30, 2009, and DG Flugzeugbau GmbH Technical Note No. 301/25, 323/16, Rev. 1, dated August 4, 2009, for related information.

Material Incorporated by Reference

(i) You must use DG Flugzeugbau GmbH Technical Note No. 301/25, 323/16, Rev. 1, dated August 4, 2009, to do the actions required by this AD, unless the AD specifies otherwise.

(1) The Director of the Federal Register approved the incorporation by reference of this service information under 5 U.S.C. 552(a) and 1 CFR part 51.

(2) For service information identified in this AD, contact DG Flugzeugbau GmbH, Otto-Lilienthal-Weg 2, 76646 Bruchsal, Federal Republic of Germany; telephone: + 49 (0) 7251 3020140; Fax: +49 (0) 7251 3020149; Internet: http://www.dg-flugzeugbau.de/index-e.html; E-Mail: dirks@dg-flugzeugbau.de.

(3) You may review copies of the service information incorporated by reference for this AD at the FAA, Central Region, Office of the Regional Counsel, 901 Locust, Kansas City, Missouri 64106. For information on the availability of this material at the Central Region, call (816) 329-3768.

(4) You may also review copies of the service information incorporated by reference for this AD at the National Archives and Records Administration (NARA). For information on the availability of this material at NARA, call (202) 741-6030, or go to: http://www.archives.gov/federal_register/code_of_federal_regulations/ibr_locations.html.

Issued in Kansas City, Missouri on September 24, 2009.
Scott A. Horn,
Acting Manager, Small Airplane Directorate, Aircraft Certification Service.

[FR Doc. E9-23543 Filed 9-30-09; 8:45 am]

BILLING CODE 4910-13-P